DEPARTMENT OF JUSTICE

Federal Bureau of Investigation

Agency: Department of Justice, Federal Bureau of Investigation, National Domestic Preparedness Office (NDPO), State and Local Advisory Group; Meeting

ACTION: Summary of meeting.

Authority: Title 5, United States Code, Appendix 2.

DATES: The State and Local Advisory Group of the NDPO was convened for its first meeting at 9 a.m. on September 26-27, 2000, at the Radisson Hotel, Old Town, Alexandria, Virginia.

SUMMARY: In accordance with provisions of Public Law 92-463, the meeting was open to the public from 9:00 a.m. to 5:30 p.m. on both days.

Thomas Kinnally, Administrator of the NDPO, introduced himself and welcomed members of the Advisory Group. The members then introduced themselves:

—Dr. Michael Ascher, Chief, Viral and Rickettsial Laboratory, Division of Communicable Disease Control, California Dept. of Health, Berkeley.

—Dr. Joseph Barbera, Co-Director of the Institute for Crisis, Disaster, and Risk Management, George Washington University Hospital, Washington DC.

—John Cline, CEM, State Director, Bureau of Disaster Services, Boise, ID.

—Steve Ennis, Volunteer Firefighter, Fredericksburg, VA.

—Dr. Michael Fagel, Ph.D., CEM, Director of Emergency Management, Cities of Aurora and North Aurora, IL.

—Woodbury Fogg, P.E., Director, New Hampshire Office of Emergency Management, Concord, NH.

—P. Michael Freeman, Chief, Los Angeles County Fire Department, Los Angeles, CA.

—Timothy Gablehouse, Chair, Jefferson County Local Emergency Planning Committee, Denver, CO.

—Jeff Griffin, Mayor, City of Reno, NV.

—Bert Langley, Ph.D., Emergency Response and SARA Title III. Coordinator, Georgia Environmental Protection Division, Atlanta, GA.

—Dave Lesak, Chief, Lehigh HAZMAT Team, Allentown, PA.

—Stan McKinney, Director, Emergency Preparedness Division, West Columbia, SC.

—Robert McNielly, Chief, Pittsburgh Police Department, PA.

—JoAnne Moreau, CEM, Director, East Baton Rouge Parish Office of Emergency Preparedness, Baton Rouge, LA.

—Lieutenant Colonel Mark Oxley, Deputy Superintendent, Louisiana State Police, Baton Rouge, LA.

—Dr. Kathy Rinnert, MD, MPH, Instructor, University of Texas Southwestern Medical Center, Department of Surgery, Division of Emergency Medicine, Dallas, TX.

—Michael Selves, CEM, Emergency Management Director, Johnson County, KS.

—Martin Singer, Director, State of New Hampshire Department of Safety, Division of Emergency Medical Services, Concord, NH.

—Richard Stilp, RN, MA, Director of Safety and Security, Orlando Regional Healthcare, Altamonte Springs, FL.

—Sergeant Charles Stumph, Orange County Sheriff's Department, Orange, CA.

—Sheriff Patrick Sullivan, Jr, Arapahoe County Sheriff's Office, Littleton, CO.

—John Teefy, Fire Captain, United Phoenix Firefighters Local, Phoenix, AZ.

—Cynthia Vlasich, RN, Nursing Spectrum, Hoffman Estates, IL.

—Richard Carmona, M.D., MPH, FACS, CEO, Pima Health Care System, Tucson, AZ.

—Rita Carty, D.N.Sc., RN, FAAN, Dean and Professor, College of Nursing and Health Sciences, George Mason University, Fairfax, VA.

—Bruce Morris, Deputy Secretary of Public Safety, Richmond, VA.

—Peter Beering, Esq., Terrorism Preparedness Coordinator, City of Indianapolis, IN.

—Joseph Waekerle, MD, Emergency Specialist, Leawood, KS.

—Michael Allswede, DO, Clinical Associate Professor, Allegheny General Hospital, Department of Emergency Medicine, Pittsburgh, PA.

Three Advisory Group members were not present:

—Dr. Michael Osterholm, Chairman and CEO, Infectious Control Advisory Network, Inc, Eden Prairie, MN.

—John Erversole, Deputy Chief, Chicago Fire Department. Chicago, IL.

—Chief Charles Ramsey, Metropolitan Police Department, Washington, DC.

Federal representatives of the NDPO attending, in addition to Mr. Kinnally, were:

—Tom Antush, Senior Terrorism Policy Specialist, Office of the Director, Federal Emergency Management Agency (FEMA).

—Christiana Briggs, National Security Council (NSC).

—Kathryn A. Condon, Special Assistant for Military Support, Office of the Secretary of the Army.

—Commander Daniel Danielczyk, U.S. Coast Guard.

—Ellen Embrey, Deputy Assistant Secretary for Military Assistance, Reserve Affairs, Office of the Secretary of Defense.

—Thomas Falvey, Director for National Security, U.S. Department of Transportation.

—Bill Finan, Program Officer, Chemical Emergency Preparedness and Prevention Office, Environmental Protection Agency (EPA).

—James Jarboe, Section Chief, Domestic Terrorism/Counterterrorism Planning Section, Counterterrorism Division, Federal Bureau of Investigation (FBI).

—Leslie Kalan, Presidential Aide, Office of the Secretary of Defense.

—James Kish, Lieutenant Colonel, National Guard Bureau (NGB).

—Robert Knouss, M.D., Director, Office of Emergency Preparedness, National Disaster Medical System, Department of Health and Human Services (DHHS).

—John Magaw, Senior Advisor to the Director for Terrorism Preparedness, FEMA.

—Vic Mantrillo, Program Specialist, FEMA.

—James Mackris, Director, Chemical Emergency Preparedness and Prevention Office, EPA.

—Barbara Martinez, Unit Chief, WMD Operations Unit, Domestic Terrorism/ Counterterrorism Planning Section, Counterterrorism Division, FBI.

—Andy Mitchell, Deputy Director, Office of State and Local Domestic Preparedness Support (OSLDPS), Office of Justice Programs (OJP), Department of Justice (DOJ).

—Darci Morgan, National Institutes of Justice Department of Justice.

—Michelle O'Shaughnessy, Department of Energy (DOE).

—Raymond F. Rees, Major General, Vice Chief, NGB.

—Cynthia Schaeffer, Centers for Disease Control.

—Ken Stroech, Deputy Emergency Coordinator, Chemical Emergency Preparedness and Prevention Office, EPA.

—Butch Straub, Director, OSLDPS, OJP, DOJ.

—Dale Watson, Assistant Director, Counterterrorism Division, FBI.

—Brenda Wise, FBI Liaison to the Department of Defense.

Mr. Dale Watson, Assistant Director of the Counterterrorism Division, FBI, delivered opening remarks. Mr. Watson reported on the history and current status of the NDPO, and noted that Attorney General Janet Reno and FEMA Director James Lee Witt would address the Advisory Group on the following day, September 27, 2000.

Mr. Kinnally charged the Advisory Group with providing advice to the NDPO on the progress of the federal government in areas of state and local domestic preparedness assistance, and outlined agenda items to be addressed: an overview of the Federal Advisory Committee Act; a presentation of legal/ethical issues and conflicts of interest as they relate to federal advisory committees; a review of the Advisory Group charter and bylaws; the election of a chair and vice-chair; a briefing on the NDPO Architectural Plan to Support State and Local WMD Terrorism Preparedness; a briefing on the Curriculum Review Panel; Breakout Sessions of three sub-groups: Law Enforcement/Fire HAZMAT; Emergency Management; and Public Health and Medical; administrative matters; remarks from the Attorney General and Director of FEMA; summaries of breakout sessions and sub-group recommendations; and public comments.

Following the order of the agenda, Allison Dunham of the NDPO delivered a briefing on the Federal Advisory Committee Act and how the State and Local Advisory Group will operate as a federal advisory committee.

Next, Mr. Robert Coyle of the FBI's Administrative Law Unit delivered a briefing on legal/ethical issues and conflicts of interest as they relate to members of federal advisory committees. He then answered related questions from the Advisory Group members.

After a break, the Advisory Group re-convened to discuss the charter and draft bylaws. It was agreed that after a chair and vice-chair were elected, the Advisory Group would then address amending the bylaws. The nominees for the Advisory Group chair were Stan McKinney, Joseph Waeckerle, and Timothy Gablehouse. The nominees for vice-chair were P. Michael Freeman and Patrick Sullivan. A vote was conducted by collecting paper ballots. As a result, Stan McKinney was voted chair, and P. Michael Freeman was elected vice-chair.

Mr. McKinney, presiding as chair, opened the discussion of the bylaws. A motion was made to adopt the bylaws and then amend them. This motion was passed. After some discussion, there was a move to table the motion to amend the bylaws until later. The vote on tabling the amendment of bylaws was accepted.

Major Thomas Leonard, NGB representative to the NDPO, asked each of the federal partner agency representatives to introduce themselves. Those presiding were: Major General Fred Rees, NGB; Ms. Ellen Embry, Office of the Secretary of Defense, DOD; Ms. Kathryn Condon, Office of the Secretary of the Army; Dr. Robert Knouss, DHHS; Mr. John Magaw, FEMA; Cindy Schaeffer, Centers for Disease Control; James Mackris, EPA; Mr. James Jarboe, FBI; Mr. Thomas Black, DOE; and Ms. Lisa Gordon-Hagerty, NSC.

Following the order of the agenda, Major Leonard then delivered a briefing on the Architectural Plan to Support State and Local WMD Terrorism Preparedness. The Architectural Plan's purpose is to develop a process by which all critical elements of an overall national domestic preparedness strategy can be identified. This would include a defined end-state, priorities, and soundly defined requirements based on valid assessments of the threat and risk of a terrorist attack; and a comprehensive inventory of existing capabilities and assets. Following discussion and questions relating to Major Leonard's presentation, the group adjourned for lunch.

The group re-convened after lunch. Stan McKinney asked that Advisory Group members review the member list and provide any necessary update information. Advisory Group member Peter Beering was identified to take the lead on getting volunteers to revise the bylaws before presenting them back to the entire group.

Next, FBI Supervisory Special Agent Robert Johnson of the NDPO delivered a briefing on the proposed Curriculum Review panel, whereby a pool of subject matter experts, nominated by the Advisory Group, shall review domestic preparedness training courses. The purpose of this panel is to verify that federally sponsored Weapons of Mass Destruction courses consistently meet the same performance objectives and standards accepted by the interagency. Currently, the NDPO lacks financial resources to implement this initiative.

Discussion was then opened on addressing the role of the Advisory Group and the NDPO, including their capabilities and limitations. The discussion ended with the announcement of the rooms where each subcommittee break-out session would be conducted: the Public Health and Emergency Medicine subcommittee met in the Madison North Room; the Law Enforcement/Fire/HAZMAT subommittee met in the Madison South Room; and the Emergency Managment subcommittee met in the Washington Ballroom. The remainder of the day was devoted to discussion in the break-out groups.

The first day of the Advisory Group meeting adjourned at 5:30 p.m.

On September 27, 2000, the Chairman Stan McKinney re-convened the Advisory Group at 9:00 a.m. It was determined that following the meeting, the NDPO would incorporate recommended changes to the revise the bylaws, which would then be sent to Mr. McKinney for review and approval.

The Advisory Group then discussed re-organizing the remaining agenda in order to meet all of its objectives. Also discussed were possible dates for the next Advisory Group meeting.

In order with the agenda, Attorney General Janet Reno and FEMA Director James Lee Witt arrived to deliver remarks and receive questions from the Advisory Group. Advisory Group Chair Stan McKinney updated them on the progress of the meeting, which he said would conclude that day with the identification of priorities and recommendations by the subcommittees, with the intent that constructive guidance would be provided to the federal partners, including Ms. Reno and Mr. Witt. Mr. McKinney articulated that this meeting sought to review the future of the NDPO, with the intent that it be a re-invigoration effort for the NDPO.

Attorney General Reno delivered her remarks, which included a brief history of the NDPO, and attributed the delay in its progress to the lack of federal funding. She said that she and Director Witt have met to address a course of action, including the requirement to move the NDPO out of FBI Headquarters. She said that she and Director Witt are committed to do everything they can now, but that her term of service will be ending in three and a half months. She said that she is receptive to Advisory Group recommendations. Attorney General Reno remarked that the Top Officials (TOPOFF) exercise was useful to the federal partners in a number of areas where they interact with state and local agencies, including training, equipment and national policy. She reiterated that she would do everything she could to get momentum going and get funding for the NDPO.

Following the Attorney General, FEMA Director James Lee Witt delivered his remarks. He said that he and the Attorney General had met several times to discuss these issues with the intent of strengthening the NDPO and the national domestic preparedness program, although it has been difficult. He said that although it has been perceived as a fragmented federal effort it is not, but getting support has been complicated. Director Witt then said that getting a national strategy to support those at the local level is their goal. He remarked that what is important is that which can be accomplished in the next three and a half months and what is done by those who follow them. He noted that John Magaw, FEMA's Senior Advisor for Terrorism Preparedness, is in place to assist his agency on what needs to be done, and that the Attorney General is trying to get the Department of Justice and other agencies to work together. He concluded by saying that the NDPO is an issue-driven office, which has so far done a great job, and that FEMA would support a united effort to fund the NDPO.

Following their remarks, Attorney General Reno and Director Witt received questions from the Advisory Group.

Following a brief question and answer period, the subcommittee break-out groups from the previous day re-convened. After a lunch break, the entire group re-convened for the afternoon plenary session.

NDPO Administrator Thomas Kinnally asked the staff of the NDPO to introduce themselves. Those present were:

Chief William Terry, Prince Georges County Fire Department; Mr. Joseph Greenlee, FEMA; Mr. Hans Crump, EPA; Major Thomas Leonard, NGB; Mr. Scott Kelberg, DOJ/OJP/OSLDPS; Unit Chief Gary Rohen, FBI; Unit Chief Dan Estrem, FBI; Supervisory Special Agent (SSA) Robert Johnson, FBI; SSA Andrew Bringuel, FBI; SSA Jeanine Santa, FBI; SSA Joel Tsiumis, FBI; Intelligence Operations Specialist (IOS) Ron Willliams, FBI; IOS Caroline McCarthy, FBI; IOS Elaine Parks, FBI, IOS Richard Sanders, FBI; IOS Allison Dunham, FBI; Dr. Dickson Diamond, FBI; IOS Jerry Wheeler, FBI; IOS Sam Gonzales, FBI.

Following the NDPO staff introductions, the subcommittee leaders from each break-out session presented their findings:

• Law Enforcement/Fire/HAZMAT Workgroup Summary:

• NDPO?s information-sharing role is very critical.

• A common communication link (CCL) should be provided to all first responders.

• Curriculum review is a priority; need to get the right people from the various disciplines to be the reviewers.

• Inter-operability (ability to communicate with each other) at the scene is important; this is an equipment issue.

• Identification of model training and exercise programs needed.

• Public health and emergency medicine components need to be brought in closer.

• Exercises should continue at the Region, State, and local levels; experiences should be shared. Federal agency representatives need to participate on a state and local basis.

• Exercises should be carried through to the recovery phase

• Training courses need to be catalogued; NDPO could also provide information on training sources.

• Common communication linkage is needed.

• Current technologies need to be identified, supported, and made available to first responders.

• ICS needs some clarification. From the LE, fire, and HAZMAT perspective, need one unified, common command system, regardless of discipline.

• Terminology needs to be clarified and made the same.

• NDPO needs to function as a one-stop shopping clearinghouse.

• NDPO needs to prepare a national strategy to speak to all disciplines that are represented.

• Need to identify and build on what is in place already. Lessons learned need to be communicated.

• Need to emphasize sharing of equipment, principles and concepts at the local, state, and federal level.

• NDPO should take a leadership role in developing a national strategy.

• In planning for the NDPO, should make SOPs known and available.

• Continue to look toward the adoption of model guidelines and SOPs.

• NDPO should set up a means of reporting on the IAB's efforts regarding equipment.

• Should provide a list of alternative equipment items, and information on shelf lives.

• NDPO should function as an information pass-through from DOJ to responders on their needs.

• NDPO could also pass information from responders to others about their needs; these can be matched with scientific ideas and research.

• NDPO could assist other federal agencies, i.e., National Institute of Justice.

• NDPO should be the information source on technical training in bomb detection and disposal.

• Health and Medical Workgroup Summary:

• NDPO concept is vital to adequate preparedness.

• NDPO's function is to be the coordinating body and information clearinghouse.

• NDPO lacks the budget, and the authority, to be anything else; would like it to be more.

• For NDPO to be seen as credible, it must demonstrate its value as an information management resource.

• NDPO needs to be more than an arm of the FBI and law enforcement programs; need to avoid stove-piping. High level jobs need to be performed by more than FBI and DOJ staff.

• All six agencies need to be integrated.

• As part of clearinghouse function, a detailed inventory of all federal programs, and what they address, needs to be prepared. This will show the current gaps and needs.

• Clearinghouse should also provide a detailed description of the WMD contracts and grants that are available, and funding mechanisms.

• Federal program products should be accessible to the public, through the clearinghouse. This will result in improved product quality.

• NDPO should promote peer review activities regarding products, etc.

• NDPO should promote operational and management integration of law enforcement, emergency management, and health components. The clearinghouse should be established to address all three components

• The clearinghouse should be a locus of information. The intent is to avoid duplication of efforts by the agencies, and to provide a single source of information to the public, and professionals in the field. This will enhance the credibility of the NDPO. Information is for federal agencies as well as state and local groups.

• The NDPO should provide programmatic direction and policy recommendations.

• Educate federal leadership about shortages, faults, etc.

• The NDPO should serve as a broad health and medical information resource to field professionals, and to itself

• A new public policy approach is needed: Funding should be provided for a public safety initiative to prepare hospitals for catastrophic and hazardous events. Sustain-ability of equipment and services should also be addressed in the policy. Red Cross is an example.

• Public health and acute care medicine need to be integrated with each other, for terrorism and for general catastrophic disasters, and then integrated with law enforcement and emergency management.

• The need to keep current with regulatory issues was not discussed in the workgroup; need to show have addressed medical information that is out-of-date in documents. For example, still keep stating will use intra-muscular Valium for organophosphate seizure control although it is no longer used. This is an example of the type of information sharing that needs to be achieved.

• Comment: The Red Cross does not receive federal funding. It is funded strictly by voluntary contributions from individuals.

• Emergency Management/State and Local Agencies Workgroup Summary:

• NDPO has a coordination role for national preparedness. To perform this role, all federal agencies need to adopt and follow the National Contingency Plan (NCP). It is a tried and tested plan.

• All federal agencies should adopt, educate about, and practice the ICS system

• All participants must pursue planning efforts at the local level, such as LEPCs

• NDPO needs to have its own internal strategic plan, and align itself to accomplish the plan.

• DOJ and FEMA need to demonstrate a commitment to the NDPO. High visibility should be given to it throughout the transition period.

• Core interagency operation and leadership staff should be funded, and encouragement given to other agencies to also fund. It is critical for this to be done now.

• Pressure is needed from the top down to get the NDPO funded.

Following the presentations, NDPO Administrator Thomas Kinnally asked the Advisory Group whether they wanted to prioritize the points they had made, or pass them all forward to the Attorney General. A comment was made to identify the overlapping issues and concepts, and then compress the list. The list would be organized as to what the plenary group expects the NDPO to do, and what the group expects itself to do. In the next few weeks the NDPO staff would prepare an executive summary and include all critical issues identified by the Advisory Group, which would then be forwarded to the Attorney General and the NDPO federal partners. It was acknowledged that little could be accomplished in the absence of NDPO funding. In the interim, Chairman Stan McKinney would meet with the Attorney General on September 28 to brief her on the Advisory Group's recommendations.

The Group then took a break. Following the break, Chairman Stan McKinney made closing remarks and the floor was opened to comments from the public. A presentation was made by Christian Sommade of the Centech Group, Arlington, VA, on European versus the U.S. Approach on Domestic Preparedness.”

Following some discussion on scheduling the next Advisory Group meeting, Chairman Stan McKinney thanked all of the participants and adjourned the meeting at 5:30 p.m.

I hereby certify that, to the best of my knowledge, the foregoing minutes are accurate and complete.

Dated: December 4, 2000.
Allison Dunham,
Administrative Officer, NDPO.

Dated: December 4, 2000.
Stan M. McKinney,
Chairman, State and Local Advisory Group for the NDPO.

These minutes will be formally considered by the Advisory Group at its next meeting, and any corrections or notations will be incorporated in the minutes of that meeting.

Responsible Federal Official: Thomas G. Kinnally, Administrator, NDPO.

ADDRESSES: The National Domestic Preparedness Office, JEH FBI Building, Room 5214, 935 Pennsylvania Ave., N.W., Washington, DC 20535.

FOR FURTHER INFORMATION CONTACT: Allison Dunham, NDPO, (202) 324-9037.

[FR Doc. 00-32818 Filed 12-22-00; 8:45 am]

BILLING CODE 4410-02-P